ARCHITECTURAL AND TRANSPORTATION BARRIERS COMPLIANCE BOARD

[Docket No. 02-1]

RIN 3014-AA26

Americans with Disabilities Act (ADA) Accessibility Guidelines for Buildings and Facilities; Architectural Barriers Act (ABA) Accessibility Guidelines; Public Rights-of-Way

AGENCY: Architectural and Transportation Barriers Compliance Board.

ACTION: Notice of meeting; correction.

SUMMARY: On June 17, 2002, the Architectural and Transportation Barriers Compliance Board (Access Board) placed in the docket and on its web site for public review and comment draft guidelines which address accessibility in the public right-of-way. The Access Board will hold an informational meeting on the draft guidelines in Portland, Oregon on October 8, 2002. The times and duration of the meeting have been revised.

DATES: Comments on the draft guidelines must be received by October 28, 2002. The Access Board will hold an informational meeting on October 8, 2002 from 8:30 a.m. until 12 p.m. and from 1:30 p.m. until 4 p.m.

ADDRESSES: Comments should be sent to the Office of Technical and Informational Services, Architectural and Transportation Barriers Compliance Board, 1331 F Street NW., suite 1000, Washington, DC 20004-1111. E-mail comments should be sent to windley@access-board.gov. Comments sent by e-mail will be considered only if they contain the full name and address of the sender in the text. Comments will be available for inspection at the above address from 9 a.m. to 5 p.m. on regular business days. The informational meeting on October 8, 2002 will be held at the Hilton Portland, 921 SW Sixth Avenue, Portland, Oregon.

FOR FURTHER INFORMATION CONTACT: Scott Windley, Office of Technical and Information Services, Architectural and Transportation Barriers Compliance Board, 1331 F Street, NW., suite 1000, Washington, DC 20004-1111. Telephone number (202) 272-0025 (voice); (202) 272-0082 (TTY). Electronic mail address: windley@access-board.gov.

SUPPLEMENTARY INFORMATION: In 1999, the Architectural and Transportation Barriers Compliance Board (Access Board) established the Public Rights-of-Way Access Advisory Committee (Committee) to make recommendations on accessibility guidelines for newly constructed and altered public rights-of-way covered by the Americans with Disabilities Act of 1990 and the Architectural Barriers Act of 1968. The Committee was comprised of representatives from disability organizations, public works departments, transportation and traffic engineering groups, design professionals and civil engineers, pedestrian and bicycle organizations, Federal agencies, and standard-setting bodies. The Committee met on five occasions between December, 1999 and January, 2001. On January 10, 2001, the Committee presented its recommendations on accessible public rights-of-way in a report entitled “Building a True Community.” The Committee's report provided recommendations on access to sidewalks, street crossings, and other related pedestrian facilities and addressed various issues and design constraints specific to public rights-of-way. The report is available on the Access Board's website at www.access-board.gov/prowac/commrept/index.htm or can be ordered by calling the Access Board at (202) 272-0080. Persons using a TTY should call (202) 272-0082. The report is available in alternate formats upon request. Persons who want a copy in an alternate format should specify the type of format (cassette tape, Braille, large print, or ASCII disk.)

The Access Board convened an ad hoc committee of Board members to review the Committee's recommendations. After reviewing the report in detail, the Board's ad hoc committee prepared recommendations for guidelines addressing accessibility in the public right-of-way. The Access Board has made the recommendations of the ad hoc committee available in the form of draft guidelines for public review and comment prior to issuing a notice of proposed rulemaking. A notice of availability of the draft guidelines and the October 8, 2002, meeting was published in the Federal Register on June 17, 2002 (67 FR 41206) and the draft guidelines along with supplementary information were placed in the rulemaking docket (Docket No. 02-1) for public review. The draft guidelines and supplementary information are available on the Access Board's Internet site (http://www.access-board.gov/rowdraft.htm). You may also obtain a copy of the draft guidelines and supplementary information by contacting the Access Board at (202) 272-0080. Persons using a TTY should call (202) 272-0082. The documents are available in alternate formats upon request. Persons who want a copy in an alternate format should specify the type of format (cassette tape, Braille, large print, or ASCII disk.) The Board will issue a notice of proposed rulemaking following a review of comments received.

In addition to welcoming written comments, the Board will hold an informational meeting to provide the public with an additional opportunity to provide input on the draft guidelines. The Board has revised the time of the meeting to 8:30 a.m. until 12 noon and from 1:30 until 4 p.m. The date and location of the meeting remain unchanged. Interested members of the public are encouraged to contact the Access Board at (202) 272-0011 (voice) or (202) 272-0082 (TTY) to preregister to attend the informational meeting. All meetings are accessible to persons with disabilities. Sign language interpreters and an assistive listening system will be available at the meeting. Persons attending the meeting are requested to refrain from using perfume, cologne, and other fragrances for the comfort of other participants.

Lawrence W. Roffee,
Executive Director.

[FR Doc. 02-22010 Filed 8-29-02; 8:45 am]

BILLING CODE 8150-01-P